DEPARTMENT OF AGRICULTURE

Submission for OMB Review; Comment Request

June 15, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by July 20, 2015 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Pesticide-Use Proposal (PUP) Form.

OMB Control Number: 0596-NEW.

Summary of Collection: The Forest Service (FS) is authorized under the Federal Insecticide, Fungicide, and Rodenticide Act, as amended (7 U.S.C. 136, and 40 CFR part 171; the Cooperative Forestry Assistance Act of 1978 (16 U.S.C. 2101) as amended by the Food, Agriculture, Conservation, and Trade Act of 1990 (7 U.S.C. 1421), and 36 CFR part 219; and the National Environmental Policy Act 42 CFR part 4321), and 36 CFR part 220 to collect information on proposed use of pesticides on lands administered by FS to safe guard natural resources and human health.

Need and Use of the Information: FS will use form FS-2100-2 to collect pesticide project information from entities for application of pesticides upon FS administered lands within rights-of-way easements, permitted lands, and under similar circumstances. Categories of information requested are descriptive of type, amount, and location of applications, as well as identification of qualifying credentials of those performing the work. Proposals will be evaluated by FS pesticide use coordinators and other administrative personnel to safeguard human health and ecological protection consistent with FS land use management programs. Without the ability to collect the details of proposed projects from outside parties, the FS would not be able to make appropriately informed decisions concerning land stewardship and necessary ecological and human health safeguards.

Description of Respondents: Individuals and households, Businesses and Organizations, and State, Local and Tribal Governments.

Number of Respondents: 36.

Frequency of Responses: Reporting: One time.

Total Burden Hours: 600.

Charlene Parker,
Departmental Information Collection Clearance Officer.

[FR Doc. 2015-15040 Filed 6-17-15; 8:45 am]

BILLING CODE 3411-15-P